Proclamation 10836 of October 10, 2024

International Day of the Girl, 2024

By the President of the United States of America

A Proclamation

Girls have the power to shake and shape our world. They will grow up to be doctors, CEOs, artists, entrepreneurs, tradeswomen, service members, scientists, or anything they put their minds to—leading our Nation to a bigger and brighter future. During International Day of the Girl, we honor the lives and contributions of girls worldwide, celebrate their limitless potential, and recommit to opening doors of opportunity so girls everywhere can realize their dreams.

Girls play an invaluable role in the success of our communities. When young women and girls are afforded the same opportunities as young men and boys, we are all better off. Economies grow, education rates and health outcomes improve, and political instability and violence decline. Yet, throughout the world, girls continue to face persecution, violence, and intimidation, and they are barred from fully participating in their communities—socially, educationally, economically, and politically.

That is why my Administration has taken steps to provide girls with the support they need to thrive, beginning in their homes and classrooms. My American Rescue Plan expanded the Child Tax Credit, which reduced child poverty to a historic low. The American Rescue Plan was also the largest one-time education investment ever in our Nation's history, bringing more teachers, counselors, social workers, after-school and summer programs, and tutoring to public schools across the country. My Administration continues to call on the Congress to restore the expanded Child Tax Credit, guarantee affordable high quality child care from birth to kindergarten for 16 million children, and make universal, free preschool available to every four-year-old in America. These actions would lift girls across the country out of poverty and ensure they enter the classroom ready and excited to learn.

In addition, my Administration made it easier for schools to leverage Medicaid to deliver mental health services to their students. We invested over $1.5 billion to strengthen the 988 Suicide and Crisis Lifeline, invest in school-based mental health services, and launched the National Mental Health Strategy, with ongoing investments to strengthen the mental health workforce, ensure mental health parity, and connect Americans to care. We remain dedicated to using every tool in our toolbox to empower girls both in and out of the classroom.

We also remain committed to ensuring that girls can live free from violence, fear, and abuse. Last month, we marked the 30th anniversary of the Violence Against Women Act (VAWA), a bill I authored more than three decades ago. Since then, every time we have reauthorized this law, we have strengthened it. For example, we broadened the law's protections to better address dating violence, sexual assault, and stalking. We expanded services for our Nation's most vulnerable populations and invested in prevention programs for young people. We provided more than $690 million in grants to over 40 VAWA-funded programs in States and Tribal communities nationwide. Through VAWA and other laws like the Victims of Crime Act and the Family Violence Prevention and Services Act, we are working every day to empower girls and end gender-based violence.

Furthermore, we are aggressively combating the harmful effects that social media can have on our children. My White House Task Force to Address Online Harassment and Abuse worked directly with parents and teens to develop ways for children to stay safe online and prevent the misuse of technology that harms girls. We are also tackling the next frontier of gender-based violence and abuse: deepfake images and videos generated by artificial intelligence. My Administration also restored and strengthened vital protections under Title IX to help keep students and employees safe from sexual assault and harassment on campus.

My Administration continues to stand with women and girls who are facing threats to their basic human rights in far too many conflicts around the world. We continue to condemn sexual violence committed by Russia's forces against women and girls in Ukraine, and we condemn the terrorist group Hamas' appalling, despicable acts of rape, mutilation, and other forms of sexual violence in Israel on October 7, 2023, and against hostages in captivity. In 2022, I signed a historic Presidential Memorandum to promote justice and accountability for acts of conflict-related sexual violence, and I have since announced dedicated sanctions and new initiatives to hold perpetrators accountable and support survivors. During this year's NATO Summit, we revised the Women, Peace, and Security Policy to address emerging security threats that put girls at risk, including the climate crisis and conflict-related sexual violence. And we are committed to eliminating child, early, and forced marriage and ending female genital mutilation and cutting, which have lifelong consequences on the health and well-being of victims, families, and communities.

Guided by the belief that our Nation and our world are at their best when there are endless possibilities for all women and girls, my Administration is devoted to helping girls reach their full potential. At the first Summit for Democracy, we established the Advancing Women's and Girls' Civic and Political Leadership Initiative to build and sustain girls' participation in political and civic engagement. And this year, my Administration launched Women Leading Effective and Accountable Democracy in collaboration with international allies to advance women and girls' leadership in democratic, peace, and security processes. And, thanks to the leadership of Vice President Harris, our Administration has galvanized more than $2.9 billion in investments to advance the economic status of women around the world, helping ensure girls will play a meaningful role in the industries of the future.

When First Lady Jill Biden spoke at the White House's first-ever celebration of Girls Leading Change last fall, she reminded the world about the power of girls. She said, “I hope you leave here knowing that your boldness is beautiful, that you belong in all places of power, that your future can be anything you want it to be, and that you will never be in this alone.” On this International Day of the Girl and every day, let us each commit to doing our part to create a brighter future worthy of the talents, aspirations, and dreams of all our girls. Because when girls do well, we all do well.

NOW, THEREFORE, I, JOSEPH R. BIDEN JR., President of the United States of America, by virtue of the authority vested in me by the Constitution and the laws of the United States, do hereby proclaim October 11, 2024, as International Day of the Girl. I call upon the people of the United States to observe this day with programs, ceremonies, and policies that advance equity and opportunity for girls everywhere.

IN WITNESS WHEREOF, I have hereunto set my hand this tenth day of October, in the year of our Lord two thousand twenty-four, and of the Independence of the United States of America the two hundred and forty-ninth.

[FR Doc. 2024-23964

Filed 10-11-24; 2:00 pm]

Billing code 3395-F4-P